DEPARTMENT OF JUSTICE

Office of Justice Programs

[OJP (OJJDP) Docket No. 1660]

Hearing of the Advisory Committee of the Attorney General's Task Force on American Indian/Alaska Native Children Exposed to Violence

AGENCY: Office of Juvenile Justice and Delinquency Prevention (OJJDP), Department of Justice.

ACTION: Notice of hearing.

SUMMARY: This is an announcement of the fourth hearing of the Advisory Committee of the Attorney General's Task Force on American Indian/Alaska Native Children Exposed to Violence (hereafter referred to as the AIAN Advisory Committee). The AIAN Advisory Committee is chartered to provide the Attorney General with valuable advice in the areas of American Indian/Alaska Native children's exposure to violence for the purpose of addressing the epidemic levels of exposure to violence faced by tribal youth. Based on the testimony at four public hearings, on comprehensive research, and on extensive input from experts, advocates, impacted families and tribal communities nationwide, the AIAN Advisory Committee will issue a final report to the Attorney General presenting its findings and comprehensive policy recommendations in the fall of 2014.

DATES: This fourth hearing will take place in Anchorage, Alaska on Wednesday, June 11, 2014, from 1:00 p.m. to 6:30 p.m.; and Thursday, June 12, 2014, from 8:30 a.m. to 6:30 p.m. A post-hearing debrief session will take place in Anchorage, Alaska on Friday, June 13, 2014, from 8:30 a.m. to 5:00 p.m. It is anticipated that a public listening session prior to the hearing itself will take place in Bethel, Alaska on Monday, June 9, 2014, from 1:30 p.m. to 5:30 p.m.

ADDRESSES: The Anchorage, Alaska hearing and post-hearing debrief session will both take place at the Sheraton Anchorage Hotel, 401 East 6th Avenue, Anchorage, Alaska 99501. Phone: (907) 276-8700. The hearing will take place in the Howard Rock Ballroom at the Sheraton Anchorage Hotel. The debrief session will take place in the Susitna Room at the Sheraton Anchorage Hotel. The public listening session in Bethel, Alaska will take place at the Yupiit Piciryarait Cultural Center, 420 Chief Eddie Hoffman Highway, Bethel, AK 99559. Phone: (907) 543-4500.

FOR FURTHER INFORMATION CONTACT: Jim Antal, AIAN Advisory Committee Designated Federal Officer (DFO) and Deputy Associate Administrator, Youth Development, Prevention and Safety Division, Office of Juvenile Justice & Delinquency Prevention, Office of Justice Programs, 810 7th Street NW., Washington, DC 20531. Phone: (202) 514-1289 [note: this is not a toll-free number]; email: james.antal@usdoj.gov.

SUPPLEMENTARY INFORMATION: This Anchorage, Alaska hearing and the anticipated Bethel, Alaska listening session are both being convened to provide information to the AIAN Advisory Committee about the issue of American Indian/Alaska Native children's exposure to violence. The focus for this fourth hearing will be on Alaska Native children exposed to violence. The final agenda is subject to adjustment, but it is anticipated that on June 11, 2014, there will be an afternoon session and on June 12, 2014, there will be a full-day session. The agenda for the afternoon session on June 11, 2014, will likely include welcoming remarks and introductions, and panel presentations from invited guests on topics focused on Alaska Native children exposed to violence. The agenda for the full-day session on June 12, 2014, will likely include presentations from witnesses invited to brief the AIAN Advisory Committee on violence issues faced by Alaska Native children exposed to violence, and existing programs that attempt to address this issue. Scheduled opportunities for public testimony are planned at the end of both days of the hearing, including an opportunity for public comment during an open microphone session just prior to the conclusion of both days of the hearing. On June 13, 2014, there will be a post-hearing debrief session that will include a review of material presented during the previous day and planning for subsequent hearings. The debriefing session will not have an opportunity for public comment; however it will be open to the public.

It is anticipated that a public listening session prior to the hearing itself will take place in Bethel, Alaska on Monday, June 9, 2014, from 1:30 p.m. to 5:30 p.m. with presentations from witnesses invited to brief the AIAN Advisory Committee on violence issues faced by Alaska Native children exposed to violence, and existing programs that attempt to address this issue. Scheduled opportunities for public testimony are planned at the end of the listening session, including an opportunity for public comment during an open microphone session just prior to the conclusion of the listening session.

Those wishing to provide scheduled oral public testimony on either day of the Anchorage, Alaska hearing or at the Bethel, Alaska listening session should register through the registration link at www.justice.gov/defendingchildhood in advance of the meetings. The scheduled public oral testimony will be accepted on a space available basis. Those wishing to provide oral testimony during the open microphone session, which will likely occur just prior to the conclusion of both days of the Anchorage, Alaska hearing and at the end of the Bethel, Alaska listening session, may register through the registration link at www.justice.gov/defendingchildhood or register onsite June 11, or June 12, 2014, at the registration desk. Prior registration is encouraged.

Those wishing to provide written testimony for this fourth hearing should register and submit their written testimony at www.justice.gov/defendingchildhood. Those wishing to provide written testimony not specific to this fourth hearing can simply send their written testimony to testimony@tlpi.org on an ongoing basis. Written testimony will also be accepted onsite June 11, and 12, 2014, at the registration desk.

Anyone requiring special accommodations should notify Mr. Antal james.antal@usdoj.gov in advance of the meeting.

Janet Chiancone,
Associate Administrator, Office of Juvenile Justice and Delinquency Prevention, Office of Justice Programs.

[FR Doc. 2014-13062 Filed 6-4-14; 8:45 am]

BILLING CODE 4410-18-P